DEPARTMENT OF TRANSPORTATION

Federal Aviation Administration

Public Notice for Waiver of Aeronautical Land-Use Assurance; Willow Run Airport; Detroit, MI

AGENCY: Federal Aviation Administration, DOT.

ACTION: Notice of intent of waiver with respect to land.

SUMMARY: The Federal Aviation Administration (FAA) is considering a proposal to authorize the release of approximately 29.5 acres of airport property for sale. The land consists of portions of the original airport parcels. These parcels were acquired by the Wayne County Road Commissioners of Wayne County, Michigan, its successors and assigns (Wayne County Airport Authority) from the U.S. Government, General Services Administration without federal participation. This property was previously released for non-aeronautical use. There are no requirements to retain the land for airport use. There are no impacts to the airport by allowing the Wayne County Airport Authority to sell the property. The land is not needed for aeronautical use. Approval does not constitute a commitment by the FAA to financially assist in the sale of the subject airport property nor a determination of eligibility for grant-in-aid funding from the FAA. The disposition of proceeds from the sale of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before February 17, 2012.

ADDRESSES: Written comments on the Sponsor's request must be delivered or mailed to: Irene R. Porter, Program Manager, Detroit Airports District Office, 11677 South Wayne Road Suite 107, Romulus, MI 48174.

FOR FURTHER INFORMATION CONTACT: Irene R. Porter, Program Manager, Federal Aviation Administration, Great Lakes Region, Detroit Airports District Office, DET ADO-607, 11677 South Wayne Road Suite 107, Romulus, Michigan 48174. Telephone Number (734) 229-2915)/Fax Number (734) 229-2950). Documents reflecting this FAA action may be reviewed at this same location or at Willow Run Airport, Detroit, Michigan.

SUPPLEMENTARY INFORMATION:

Exhibit “A”

Part of Section 12, Town 3 South, Range 7 East, Ypsilanti Township, Washtenaw County, Michigan and being more particularly described as follows: Commencing at the Northeast corner of Section 12, Town 3 South, Range 7 East, Ypsilanti Township, Washtenaw County, Michigan; Running thence the following courses and distances along the Easterly and Southerly line of the General Motors Corporation, Hydra-Matic Division, Willow Run Plant Property, South 01 degree 27 minutes 26 seconds West along the East line of said Section 12, a distance of 33.00 feet to the Northwest corner of Section 7, Town 3 South, Range 8 East, Van Buren Township, Wayne County, Michigan; thence North 87 degrees 37 minutes 30 seconds East along the North line of said Section 7, a distance of 33.07 feet to a point; thence South 01 degree 27 minutes 26 seconds West, 525.40 feet to a point; thence North 89 degrees 59 minutes 56 seconds East, 153.16 feet to a point; thence South 00 degrees 00 minutes 04 seconds West, 275.00 feet to a point; thence South 89 degrees 59 minutes 56 seconds West across the line common to said Sections 7 and 12 and into said Section 12, a distance of 425.10 feet to a point; thence South 00 degrees 00 minutes 35 seconds West, 534.67 feet to a point; thence South 24 degrees 17 minutes 05 seconds East across the line common to said Sections 12 and 7 and into said Section 7, a distance of 741.25 feet to a point; thence South, 768.31 feet to a point; thence South 41 degrees 23 minutes 40 seconds West across the line common to said Sections 7 and 12 and into said Section 12, a distance of 225.25 feet to a point; thence South 64 degrees 28 minutes 25 seconds West, 125.00 feet to a point; thence North, 40.00 feet to a point; thence North 75 degrees 54 minutes 30 seconds West, 404.79 feet to a point; thence West, 473.73 feet to a point; thence South 00 degrees 08 minutes 45 seconds West a measured distance of 241.25 feet (described 243.27 feet) to a point; thence South 77 degrees 57 minutes 35 seconds West a distance of 4.93 feet to the point of beginning of the parcel of land herein being described; Proceeding thence from said point of beginning South 00 degrees 03 minutes 01 second West along the Easterly edge of an existing concrete roadway, a distance of 1102.78 feet to a point of curve in said roadway; thence continuing along the Easterly edge of said roadway, along the arc of a curve, concave to the Northeast, having a radius 334.72 feet, a central angle of 50 degrees 31 minutes 07 seconds, an arc distance of 295.13 feet (chord bears South 25 degrees 12 minutes 33 seconds East 285.66 feet) to a point; thence North 64 degrees 36 minutes 55 seconds West, along a line not tangent to the foregoing curve, a distance of 204.04 feet to a point of curve; thence along the arc of a curve concave to the Northeast, having a radius of 3233.20 feet, a central angle of 08 degrees 03 minutes 00 seconds, an arc distance of 454.26 (chord bears North 60 degrees 35 minutes 25 seconds West 453.89 feet) to a point of tangent; thence North 56 degrees 33 minutes 55 seconds West, a distance of 1484.43 feet to a point of curve; thence along the arc of a curve, concave to the Northeast, having a radius of 3739.90 feet, a central angle of 01 degrees 59 minutes 46 seconds, an arc distance of 130.30 feet (chord North 55 degrees 34 minutes 02 seconds West 103.29 feet) to a point of tangent; thence North 54 degrees 34 minutes 09 seconds West, a distance of 359.56 feet to a point on the Southerly line of said General Motors Corporation, Hydra-Matic Division, Willow Run Plant Property; thence the following courses and distance along the Southerly line of said Hydra-Matic Division, Willow Run Plant Property, South 89 degrees 55 minutes 54 seconds East, 61.04 feet to a point; thence South 56 degrees 33 minutes 55 seconds East, 215.23 feet to a point; thence South 75 degrees 32 minutes 00 seconds East 172.85 feet to a point; thence South 80 degrees 44 minutes 00 seconds East 75.00 feet to a point; thence South 87 degrees 23 minutes 00 seconds East 70.12 feet to a point; thence East 1059.88 feet to a point; thence North 24.27 feet to a point; thence North 77 degrees 57 minutes 35 seconds East a distance of 497.22 feet to the point of beginning.

Exhibit “B”

Part of Section 12, Town 3 South, Range 7 East, Ypsilanti Township, Washtenaw County, and part of Section 7, Town 3 South, Range 8 East, Van Buren Township, Wayne County, Michigan and being more particularly described as follows: Commencing at the Northeast corner of Section 12, Town 3 South, Range 7 East, Ypsilanti Township, Washtenaw County, Michigan; Running thence the following courses and distances along the Easterly line of the General Motors Corporation, Hydra-Matic Division, Willow Run Plant Property, South 01 degree 27 minutes 26 seconds West along the East line of said Section 12, a distance of 33.00 feet to the Northwest corner of Section 7, Town 3 South, Range 8 East, Van Buren Township, Wayne County, Michigan; thence North 87 degrees 37 minutes 30 seconds East along the North line of said Section 7, a distance of 33.07 feet to a point; thence South 01 degree 27 minutes 26 seconds West, 525.40 feet to a point; thence North 89 degrees 59 minutes 56 seconds East, 153.16 feet to a point; thence South 00 degrees 00 minutes 04 seconds West, 275.00 feet to a point; thence South 89 degrees 59 minutes 56 seconds West across the line common to said Sections 7 and 12 and into said Section 12, a distance of 425.10 feet to a point; thence South 00 degrees 00 minutes 35 seconds West, 534.67 feet to a point; thence South 24 degrees 17 minutes 05 seconds East, a distance of 102.37 feet to the point of beginning of the parcel of land herein being described; Proceeding thence from said point of beginning South 74 degrees 42 minutes 16 seconds East along the line of a six foot chain link fence, a distance of 32.84 feet to an angle point in said fence line; thence continuing along said fence line, South 89 degrees 58 minutes 36 seconds East across the line common to said Sections 12 and 7 and into said Section 7, a distance of 231.08 feet to a point; thence South, along the Northerly extension of a portion of the Easterly line of said General Motors Corporation, Hydra-Matic Division, Willow Run Plant Property, a distance of 573.60 feet to a point on the Easterly line of said Hydra-Matic Division Property; thence North 24 degrees 17 minutes 05 seconds West along said property line, a distance of 638.88 feet to the point of beginning.

Exhibit “C”

Part of Section 12, Town 3 South, Range 7 East, Ypsilanti Township, Washtenaw County, and part of Section 7, Town 3 South, Range 8 East, Van Buren Township, Wayne County, Michigan and being more particularly described as follows: Commencing at the Northeast corner of Section 12, Town 3 South, Range 7 East, Ypsilanti Township, Washtenaw County, Michigan; Running thence the following courses and distances along the Easterly line of the General Motors Corporation, Hydra-Matic Division, Willow Run Plant Property, South 01 degree 27 minutes 26 seconds West along the East line of said Section 12, a distance of 33.00 feet to the Northwest corner of Section 7, Town 3 South, Range 8 East, Van Buren Township, Wayne County, Michigan; thence North 87 degrees 37 minutes 30 seconds East along the North line of said Section 7, a distance of 33.07 feet to a point; thence South 01 degree 27 minutes 26 seconds West, 525.40 feet to a point; thence North 89 degrees 59 minutes 56 seconds East, 153.16 feet to a point; thence South 00 degrees 00 minutes 04 seconds West, 275.00 feet to a point; thence South 89 degrees 59 minutes 56 seconds West across the line common to said Sections 7 and 12 and into said Section 12, a distance of 425.10 feet to a point; thence South 00 degrees 00 minutes 35 seconds West, 534.67 feet to a point; thence South 24 degrees 17 minutes 05 seconds East across the line common to said Sections 12 and 7 and into said Section 7, a distance of 741.25 feet to a point; thence South, a distance of 768.31 feet to the point of beginning of the parcel of land herein described; Proceeding thence from said point of beginning South, along the Southerly extension of a portion of the Easterly line of said General Motors Corporation, Hydra-Matic Division, Willow Run Plant Property, a distance of 221.53 feet to a point; thence South 89 degrees 42 minutes 46 seconds West along the line of a six foot chain link fence, a distance of 261.75 feet to a point on the Southerly line of said General Motors Corporation, Hydra-Matic Division, Willow Run Plant Property; thence North 64 degrees 28 minutes 25 seconds East along said property line, a distance of 125.00 feet to an angle point in said property line; thence continuing along said property line North 41 degrees 23 minutes 40 seconds East a distance of 225.25 feet to the point of beginning.

Issued in Romulus, Michigan, on December 21, 2011.
John L. Mayfield, Jr.,
Manager, Detroit Airports District Office, FAA, Great Lakes Region.

[FR Doc. 2012-796 Filed 1-17-12; 8:45 am]

BILLING CODE 4910-13-P